DEPARTMENT OF COMMERCE

National Oceanic and Atmospheric Administration

[I.D. 121701C]

Endangered and Threatened Species; Amendment of Permit # 1291

AGENCY: National Marine Fisheries Service (NMFS), National Oceanic and Atmospheric Administration (NOAA), Commerce.

ACTION: Receipt of an amended application for a scientific research permit (1291); Request for comments.

SUMMARY: Notice is hereby given that NMFS has received an amended application for an ESA section 10(a)(1)(A) scientific research permit from the U.S. Geological Survey at Cook, WA (USGS).

DATES: Written comments on the amended permit application must be received no later than 5pm Pacific standard time on February 1, 2002.

ADDRESSES: Written comments on the application should be sent to Protected Resources Division (PRD), F/NWO3, 525 NE Oregon Street, Suite 500, Portland, OR 97232-2737. Comments may also be sent via fax to 503-230-5435. Comments will not be accepted if submitted via e-mail or the internet.

FOR FURTHER INFORMATION CONTACT: For permit 1291: Robert Koch, Portland, OR (ph: 503-230-5424, Fax: 503-230-5435, e-mail: robert.koch@noaa.gov).

SUPPLEMENTARY INFORMATION:

Species Covered in This Notice

The following species and evolutionary significant units (ESU’s) are covered in this notice:

Chinook salmon (Oncorhynchus tshawytscha): threatened lower Columbia River (LCR).

Steelhead (O. mykiss): threatened LCR.

Amended Application Received

Notice was published on February 21, 2001 (66 FR 11002) that the Columbia River Research Laboratory, USGS applied for a 5-year scientific research permit (1291) for annual takes of ESA-listed salmon and steelhead juveniles associated with a scientific research project at John Day, The Dalles, and Bonneville Dams on the lower Columbia River in the Pacific Northwest. The purpose of the research is to monitor juvenile fish movement, distribution, behavior, and survival from John Day Dam downstream past Bonneville Dam using radiotelemetry technology. The research will benefit ESA-listed fish species by providing information on spill effectiveness, forebay residence times, and guidance efficiency under various flow regimes that will allow Federal resource managers to make adjustments to bypass/collection structures to optimize downriver migrant survival at the hydropower projects. NMFS has received an amended application from USGS to include annual takes of juvenile, threatened, LCR chinook salmon and juvenile, threatened, LCR steelhead associated with the fish sampling at Bonneville Dam. ESA-listed salmon and steelhead juveniles are proposed to be obtained by Smolt Monitoring Program personnel at Bonneville Dam, handled, and released or implanted with radio transmitters, transported, held for as long as 24 hours, released, and tracked electronically. Smolt Monitoring Program personnel are authorized to collect ESA-listed juvenile fish under a separate take authorization. Based on the above average spawning success this year, the estimates of total out-migrants for LCR chinook and LCR steelhead are expected to exceed 300,000 juveniles. The indirect mortalities of 162 ESA-listed juvenile salmon and 11 steelhead juveniles associated with the research will not impede recovery of the species. In fact, it should assist in recovery planning by providing information on how juveniles migrate through hydro-power systems.

Dated: December 21, 2001.
Phil Williams,
Acting Chief, Endangered Species Division, Office of Protected Resources, National Marine Fisheries Service.

[FR Doc. 01-32241 Filed 12-31-01; 8:45 am]

BILLING CODE 3510-22-S